DEPARTMENT OF THE INTERIOR

Bureau of Land Management

[BLM_CA_FRN_MO4500179115]

Notice of Availability of the Proposed Resource Management Plan and Final Environmental Impact Statement for the Redding and Arcata Field Offices Northwest California Integrated Resource Management Plan, California

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Proposed Resource Management Plan (RMP) and Final Environmental Impact Statement (EIS) for the Redding Field Office and Arcata Field Office Northwest California Integrated Resource Management Plan and by this notice is announcing the start of a 30-day protest period of the Proposed RMP.

DATES: This notice announces a 30-day protest period to the BLM on the Proposed RMP beginning with the date following the Environmental Protection Agency's (EPA) publication of its Notice of Availability (NOA) of the Proposed RMP/Final EIS in the Federal Register. The EPA usually publishes its NOAs on Fridays. Protests must be postmarked or electronically submitted on the BLM's ePlanning site during the 30-day protest period.

ADDRESSES: The Proposed RMP and Final EIS is available on the BLM ePlanning project website at https://eplanning.blm.gov/eplanning-ui/project/2012803/510. Documents pertinent to this proposal may be examined online at https://eplanning.blm.gov/eplanning-ui/project/2012803/510 and at the Arcata Field Office and Redding Field Office.

Instructions for filing a protest with the BLM for the Proposed Northwest California Integrated Resource Management Plan can be found at https://www.blm.gov/programs/planning-and-nepa/public-participation/filing-a-plan-protest and at 43 CFR 1610.5-2. The address for filing a protest is: the ePlanning website listed above or BLM Director, Attention: Protest Coordinator (HQ210), Denver Federal Center, Building 40 (Door W-4), Lakewood, CO 80215.

FOR FURTHER INFORMATION CONTACT: Victoria Callahan, Planning and Environmental Specialist, telephone: (707) 825-2315; address: Bureau of Land Management, Arcata Field Office, 1695 Heindon Road, Arcata, California 95521-4573; email: vslaughter@blm.gov or Chad Endicott, Planning and Environmental Specialist, telephone: (530) 224-2140; address: Bureau of Land Management, Redding Field Office, 6640 Lockheed Drive, Redding, CA 96002-9003; email: cendicott@blm.gov. Individuals in the United States who are deaf, deafblind, hard of hearing, or have a speech disability may dial 711 (TTY, TDD, or TeleBraille) to access telecommunications relay services for contacting Ms. Callahan or Mr. Endicott. Individuals outside the United States should use the relay services offered within their country to make international calls to the point-of-contact in the United States.

SUPPLEMENTARY INFORMATION: This document provides notice that the BLM California State Director has prepared a Proposed RMP and Final EIS and provides information announcing the availability on the Proposed RMP and Final EIS. The planning area is in Mendocino, Humboldt, Del Norte, Siskiyou, Trinity, Shasta, Tehama, and Butte counties, California, and encompasses approximately 382,200 acres of public land and approximately 295,100 subsurface acres of Federal mineral estate.

Current Arcata Field Office and Redding Field Office management is identified in their respective 1992 and 1993 RMPs. All existing management as described in the Arcata Field Office and Redding Field Office approved RMPs remains in effect until and unless replaced or modified by the Northwest California Integrated Resource Management Plan Approved RMP and Record of Decision. Separate management plans guide BLM management for National Monuments, National Conservation Areas, and similar designations within the planning area.

Other non-BLM-administered lands within the planning area include the Six Rivers, Shasta-Trinity, Klamath, Lassen, Plumas, and Mendocino National Forests; Lassen Volcanic and Redwoods National Parks; the Whiskeytown and Smith River National Recreation Areas; the Sacramento Castle Rock and Humboldt Bay National Wildlife Refuges; and Black Butte Lake (managed by the US Army Corps of Engineers). In addition, Tribal lands and reservations for 31 federally recognized Native American Tribes fall within the planning area, and the BLM-administered lands include ancestral territories, sacred sites, gathering areas, and other places important to Tribes. The Bureau of Reclamation manages numerous land holdings and facilities within the planning area, including six hydroelectric dams and lands that are co-managed with the BLM under a memorandum of agreement with the Redding Field Office near the Shasta Dam and Keswick Reservoir. In addition to federally managed lands, there are an extensive number of State of California-managed beaches, parks, wildlife areas, and recreation areas in the planning area. The Arcata Field Office and Redding Field Office have taken these non-BLM-administered lands into account in this planning effort.

In preparing the Proposed RMP, the BLM evaluated in detail four alternatives in the Final EIS, including the No Action Alternative (Alternative A) and three action alternatives (Alternatives B, C, and D) that were based on known resource use and issues in the planning area. Alternative B emphasizes resource connectivity and resiliency. Under Alternative B, the BLM would manage for multiple use and maintenance of corridors of relatively undeveloped areas to provide for connectivity of wildlife and fisheries habitat, and to serve as a resilient refuge from ongoing development and climate change. This, in turn, would provide recreational and aesthetic resources for public enjoyment. Alternative C emphasizes community access and development. Under Alternative C, the BLM would also manage for multiple use and public enjoyment with an emphasis on recreational opportunity and access, travel and utility opportunities, and social and economic benefits. Alternative D aims to create opportunities for resource uses, such as recreation, motorized and mechanized travel, and livestock grazing, while maintaining ecological function and meeting land capability to protect habitat connectivity. All action alternatives would enable the BLM to manage for multiple use and long-term sustainability and provide for public use and enjoyment of BLM-administered lands.

These action alternatives are analyzed against the No Action Alternative (current management) and comply with the BLM's management responsibilities and regulatory requirements.

The State Director has identified Alternative D as the preferred alternative. Alternative D was found to best meet the State Director's planning guidance and, therefore, was selected as the preferred alternative. By including components of all alternatives considered, Alternative D strikes a balance between the action alternatives to provide community access and development, while ensuring wildlife connectivity and ecosystem resilience.

Public review of the Draft Northwest California Integrated RMP and EIS began on September 29, 2023, and ended on December 28, 2023. The BLM held two virtual and two in-person public meetings across the planning area during the 90-day comment period. Comments received on the Draft RMP and EIS were considered and incorporated in the Proposed RMP and Final EIS as appropriate. Public and cooperating agency comments and further internal BLM review resulted in the addition of clarifying text and refinement of Alternative D, including, but not limited to, updated suitability determinations for six Wild and Scenic Rivers segments, and revised goals, objectives, and management direction for the Riparian Management Areas.

Protest of the Proposed RMP

The BLM planning regulations state that any person who participated in the preparation of the RMP and has an interest that will or might be adversely affected by approval of the Proposed RMP may protest its approval to the BLM Director. Protest on the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed to the appropriate address or submitted electronically through the BLM ePlanning project website, as set forth in the ADDRESSES section earlier. Protests submitted electronically by any means other than the ePlanning project website will be invalid unless a protest is also submitted as a hard copy. The BLM Director will render a written decision on each protest. The Director's decision shall be the final decision of the Department of the Interior. Responses to valid protest issues will be compiled and documented in a Protest Resolution Report made available following the protest resolution online at: https://www.blm.gov/programs/planning-and-nepa/public-participation/protest-resolution-reports. Upon resolution of protests, the BLM will issue a Record of Decision (ROD) and Approved RMP.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Gordon R. Toevs,
Acting State Director.

[FR Doc. 2024-13463 Filed 6-20-24; 8:45 am]

BILLING CODE 4331-16-P